DEPARTMENT OF THE TREASURY

Agency Information Collection Activities; Submission for OMB Review; Comment Request; Preparer Hardship Waiver Request and Preparer Explanation for Not Filing Electronically

AGENCY: Departmental Offices, U.S. Department of the Treasury.

ACTION: Notice.

SUMMARY: The Department of the Treasury will submit the following information collection request to the Office of Management and Budget (OMB) for review and clearance in accordance with the Paperwork Reduction Act of 1995, on or after the date of publication of this notice. The public is invited to submit comments on these requests.

DATES: Comments must be received on or before March 29, 2021.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Copies of the submissions may be obtained from Molly Stasko by emailing PRA@treasury.gov, calling (202) 622-8922, or viewing the entire information collection request at www.reginfo.gov.

SUPPLEMENTARY INFORMATION:

Internal Revenue Service (IRS)

Title: Preparer Hardship Waiver Request and Preparer Explanation for Not Filing Electronically.

OMB Control Number: 1545-2200.

Type of Review: Extension of a currently approved collection.

Description: A tax preparer uses Form 8944 to request a waiver from the requirement to file tax returns on magnetic media when the filing of tax returns on magnetic media would cause a hardship. A specified tax return preparer uses Form 8948 to explain which exception applies when a covered return is prepared and filed on paper.

Form: IRS Form 8944 and IRS Form 8948.

Affected Public: Businesses or other for-profit organizations.

Estimated Number of Respondents: 8,910,000.

Frequency of Response: Annually.

Estimated Total Number of Annual Responses: 8,910,000.

Estimated Time per Response: 7.99 hours for Form 8944 and 1.99 hours for Form 8948.

Estimated Total Annual Burden Hours: 18,270,900 hours.

Authority: 44 U.S.C. 3501 et seq.

Dated: February 22, 2021.
Molly Stasko,
Treasury PRA Clearance Officer.

[FR Doc. 2021-03944 Filed 2-25-21; 8:45 am]

BILLING CODE 4830-01-P